FEDERAL DEPOSIT INSURANCE CORPORATION

12 CFR Part 360

RIN 3064-AD55

Transitional Safe Harbor Protection for Treatment by the Federal Deposit Insurance Corporation as Conservator or Receiver of Financial Assets Transferred by an Insured Depository Institution in Connection With a Securitization or Participation

AGENCY: Federal Deposit Insurance Corporation (FDIC).

ACTION: Final rule; correction.

SUMMARY: The Federal Deposit Insurance Corporation (FDIC) is correcting a final rule that appeared in the Federal Register of March 18, 2010 (75 FR 12962). The final rule added a new provision in order to continue for a limited time the safe harbor provision for securitizations that would be affected by recent changes to generally accepted accounting principles. In effect, the Final Rule permanently “grandfathers” all securitizations for which financial assets were transferred or, for revolving trusts, for which securities were issued prior to September 30, 2010 so long as those securitizations complied with the preexisting requirements under generally accepted accounting principles in effect prior to November 15, 2009.

DATES: Effective March 18, 2010.

FOR FURTHER INFORMATION CONTACT: Michael Krimminger, Office of the Chairman, 202-898- 8950; George Alexander, Division of Resolutions and Receiverships, 202 898-3718; or R. Penfield Starke, Legal Division, 703-562-2422, Federal Deposit Insurance Corporation, 550 17th Street, NW., Washington, DC 20429.

SUPPLEMENTARY INFORMATION: In the final rule published in the Federal Register of March 18, 2010 (75 FR 12962), an incorrect date was given for the publication of the interim rule published on November 17, 2009. and therefore the following corrections are made:

1. On page 12963 the DATES section is corrected to read:

Effective March 18, 2010, the Board of Directors of the Federal Deposit Insurance Corporation confirms as final with changes, the interim rule published on November 17, 2009 (74 FR 59066) .

2. On page 12963, the final sentence of the Background statement is corrected to read:

In response to industry concerns, the FDIC published an Interim Final Rule on November 17, 2009 (74 FR 59066) that addressed securitizations (and participations) issued before March 31, 2010.

3. On page 12965, the amendatory language statement is corrected to read:

For the reasons stated above, the Board of Directors of the Federal Deposit Insurance Corporation confirms as final, the interim rule amending chapter III of title 12 of the Code of Federal Regulations by amending Part 360 published on November 17, 2009 (74 FR 59066) with the following changes:

Dated at Washington, DC, this 19th day of March 2010.
Federal Deposit Insurance Corporation.
Robert E. Feldman,
Executive Secretary.

[FR Doc. 2010-6555 Filed 3-24-10; 8:45 am]

BILLING CODE 6714-01-P